ENVIRONMENTAL PROTECTION AGENCY

[ER-FRL-8994-8]

Environmental Impacts Statements; Notice of Availability

Responsible Agency: Office of Federal Activities, General Information (202) 564-1399 or http://www.epa.gov/compliance/nepa/.

Weekly Receipt of Environmental Impact Statements Filed 01/10/2011 Through 01/14/2011 Pursuant to 40 CFR 1506.9

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110011, Final EIS, FHWA, NC, Gaston East-West Connector Project, Construction (from I-85 west Gastonia to I-485/NC 160 near the Charlotte-Douglas International Airport, Gaston and Meckleburg Counties, NC, Wait Period Ends: 02/22/2011, Contact: Jennifer Harris, 919-571-3004.

EIS No. 20110012, Final EIS, NRC, AZ, GENERIC EIS—License Renewal of Nuclear Plants, Regarding Palo Verde Nuclear Generating Station, Supplement 43, NUREG-1437, Maricopa County, AZ, Wait Period Ends: 02/22/2011, Contact: David Drucker, 301-415-6223.

EIS No. 20110013, Final EIS, NPS, VA, Cedar Creek and Belle Grove National Historical Park, General Management Plan, Implementation, Frederick, Shenandoah, Warren Counties, VA, Wait Period Ends: 02/22/2011, Contact: Peter Iris-Williams, 215-597-6479.

EIS No. 20110014, Draft EIS, USFS, ID, Forest Plan Amendments Proposed to Facilitate Implementation of the 2011 Plan-Scale Wildlife Conservation Strategy Phase 1: Forested Biological Community, Payette National Forest, Adam, Idaho, Valley and Washington Counties, ID, Comment Period Ends: 04/20/2011, Contact: Sue Dixon, 208-634-0700.

EIS No. 20110015, Draft EIS, USFWS, WA, Willapa National Wildlife Refuge Draft Comprehensive Conservation Plan, Implementation, Pacific County, WA, Comment Period Ends: 03/07/2011, Contact: Charles Houghten, 503-231-6207.

Amended Notices

EIS No. 20110009, Draft EIS, GSA, DC, Nebraska Avenue Complex Master Plan, Propose to Consolidate Over 28,000 DHS Employees, Location 3801 Nebraska Ave., NW., Washington, DC, Comment Period Ends: 03/01/2011, Contact: Suzanne Hill, 202-205-5821. Revision to FR Notice 01/14/2011. Correction to the Status from Final EIS to Draft EIS.

Dated: January 18, 2011.
Cliff Rader,
Environmental Protection Specialist, NEPA Compliance Division, Office of Federal Activities.

[FR Doc. 2011-1259 Filed 1-20-11; 8:45 am]

BILLING CODE 6560-50-P